DEPARTMENT OF COMMERCE

Census Bureau

Proposed Information Collection; Comment Request; Survey of Income and Program Participation (SIPP) 2013 Event History Calendar—Field Test

AGENCY: U.S. Census Bureau, Commerce.

ACTION: Notice.

SUMMARY: The Department of Commerce, as part of its continuing effort to reduce paperwork and respondent burden, invites the general public and other federal agencies to take this opportunity to comment on proposed and/or continuing information collections, as required by the Paperwork Reduction Act of 1995, Public Law 104-13 (44 U.S.C. 3506(c)(2)(A)).

DATES: To ensure consideration, written comments must be submitted on or before August 10, 2012.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Nathaniel McKee, Census Bureau, Room HQ-7H137 Washington, DC 20233-8400, (301) 763-5244 (or via the Internet at nathanial.b.mckee@census.gov).

SUPPLEMENTARY INFORMATION:

I. Abstract

The Census Bureau plans to conduct a field test for the 2013 SIPP Event History Calendar (SIPP-EHC) from January to March of 2013. The SIPP is a household-based survey designed as a continuous series of national panels. The SIPP represents a source of information for a wide variety of topics and allows the integration of information for separate topics to form a single, unified database allowing for the examination of the interaction between tax, transfer, and other government and private policies. Government domestic policy formulators depend heavily upon the SIPP information concerning the distribution of income received directly as money or indirectly as in-kind benefits and the effect of tax and transfer programs on that distribution. They also need improved and expanded data on the income and general economic and financial situation of the U.S. population, which the SIPP has provided on a continuing basis since 1983. The SIPP has measured levels of economic well-being and permitted measurement of changes in these levels over time.

The SIPP-EHC is molded around a central “core” of labor force and income questions that are supplemented with questions designed to address specific needs in complementary subject areas. The 2013 SIPP-EHC again uses an Event History Calendar (EHC) that facilitates the collection of dates of events and spells of coverage, as did the 2010, 2011, and 2012 SIPP-EHC.

The content of the 2013 SIPP-EHC will match that of the 2012 SIPP-EHC very closely. The SIPP-EHC design does not contain freestanding topical modules; however, a portion of traditional SIPP topical module content is integrated into the 2013 SIPP-EHC interview. Examples of this content include questions on medical expenses, child care, retirement and pension plan coverage, marital history, adult and child well-being, and others. The EHC should assist the respondent's ability to recall events accurately over the longer reference period and provide increased data quality and inter-topic consistency for dates reported by respondents.

The 2013 SIPP-EHC field test will revisit survey respondents who were first interviewed in the 2011 SIPP-EHC field test and then again in the 2012 SIPP-EHC field test. The 2013 SIPP-EHC will interview respondents using the previous calendar year 2012 as the reference period and is the final evaluation in the transition of the SIPP program to annual interviewing. The 2013 SIPP-EHC will be the second test of the revised interviewing method structure that will follow adults (age 15 years and older) who move from the prior wave household, as well as the second test incorporating dependent data from the prior wave in the current EHC interview. Dependent data, which is information collected from the prior wave interview brought forward to the current interview, is a crucial component added to the 2012 SIPP-EHC to reduce the possible impact of seam bias for longitudinal uses of the monthly data. The 2013 SIPP-EHC will be the first opportunity to evaluate situations where original sample people (OSP) have the chance to have moved out in the prior wave and then return. The 2013 SIPP-EHC will be the last opportunity before full production to refine instrument improvements, evaluate the ability to follow movers, implement dependent data use, and produce an initial evaluation of attrition related to the new instrument design and interview interval. Although the sample is limited to high-poverty strata in 20 states and cannot represent the characteristics of the test if implemented in a full nationally representative sample, we can effectively compare the same geographies and characteristics for the same period in the 2008 panel of the production SIPP. As with the 2012 field test, 2013 SIPP-EHC will be a critical final test for the functionality of all of the interrelated systems to locate and re-interview respondents after a year.

The Census Bureau plans to use Computer Assisted Recorded Interview (CARI) technology for some of the respondents during the 2013 SIPP-EHC. CARI is a data collection method that captures audio along with response data during computer-assisted personal and telephone interviews (CAPI & CATI). With the respondent's consent, a portion of each interview is recorded unobtrusively and both the sound file and screen images are returned with the response data to a central location for coding. The CARI technology will be used in conjunction with the 2013 SIPP-EHC and add about 1,000 burden hours to the overall total for 2013. The CARI respondents for the 2013 field test were first interviewed and recorded during the 2012 SIPP-EHC CARI field test, which was a separate sample utilizing a CARI enabled version of the 2012 SIPP-EHC instrument. In 2013, the CARI sample will be combined with the SIPP-EHC sample, which will test the capability of the SIPP-EHC instrument to perform multiple paths during the same interview period. The SIPP-EHC CARI sample is a Wave 2 interview, while the 2012 SIPP-EHC sample will be in its third wave for 2013. The CARI recordings will not be limited to only the previously recorded cases; instead, the sample will contain both previously recorded cases and some Wave 3 cases that will be recorded in 2013. This is a critical evaluation, as evidence from external surveys suggests that simply asking the consent question could be associated with a significant increase in survey length. External researchers at the Institute for Social Research at the University of Michigan suspect that improved FR adherence to protocol is one of the sources for the longer interviews. Additionally, we need information on the association between CARI, interview length, and interview quality.

By reviewing the recorded portions of the interview, quality assurance analysts can evaluate the likelihood that the exchange between the field representative and respondent is authentic and follows critical survey protocol as defined by the sponsor and based on best practices. The 2013 SIPP-EHC field test instrument will utilize the CARI Interactive Data Access System (CARI System), an innovative, integrated, multifaceted monitoring system that features a configurable web-based interface for behavior coding, quality assurance, and coaching. This system assists in coding interviews for measuring question and interviewer performance and the interaction between interviewers and respondents.

Approximately 3,000 households are expected to be interviewed for the 2013 SIPP-EHC field test, which is comprised of approximately 2,000 cases returning for a third wave from the 2012 SIPP-EHC and approximately 1,000 cases returning for a second wave from the 2012 SIPP-EHC CARI. We estimate that each household contains 2.1 people aged 15 and above, yielding approximately 6,300 person-level interviews in this field test. Interviews take 60 minutes per adult on average, consequently the total annual burden for 2013 SIPP-EHC field test interviews will be 6,300 hours in FY 2013.

II. Method of Collection

The 2013 SIPP-EHC field test instrument will consist of one household interview that will reference the calendar year 2012. The interview is conducted in person with all household members 15 years old or over using regular proxy-respondent rules.

III. Data

OMB Control Number: 0607-0957.

Form Number: SIPP/CAPI Automated Instrument.

Type of Review: Regular.

Affected Public: Individuals or Households.

Estimated Number of Respondents: 6,300 people.

Estimated Time per Response: 60 minutes per person on average.

Estimated Total Annual Burden Hours: 6,300.

Estimated Total Annual Cost: The only cost to respondents is their time.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 5, 2012.
Glenna Mickelson,
Management Analyst, Office of the Chief Information Officer.

[FR Doc. 2012-14016 Filed 6-8-12; 8:45 am]

BILLING CODE 3510-07-P